DEPARTMENT OF HEALTH AND HUMAN SERVICES

Administration for Children and Families

Proposed Information Collection Activity; Comment Request; Proposed Projects

Title: Guidance for the Tribal Temporary Assistance for Needy Families (TANF) Program.

OMB No.: 0970-0157.

Description: 42 U.S.C. 612 (section 412 of the Social Security Act) requires each Indian tribe that elects to administer and operate a TANF program to submit a Tribal TANF plan. The Tribal plan is a mandatory statement submitted to the Secretary by the Indian tribe, which consists of an outline of how the Indian tribe's TANF program will be administered and operated. It is used by the Secretary to determine whether the plan is approvable and to determine that the Indian tribe is eligible to receive a TANF assistance grant. It is also made available to the public.

Respondents: Indian tribes applying to operate a TANF program.

Annuall Burden Estimates
Instrument | Number of respondents | Number of responses per respondent | Average burden hours per response | Total burden hours
Guidance for the Tribal Temporary Assistance for Needy Families (TANF) Program | 20 | 1 | 54 | 1080
Estimated Total Annual Burden Hours |  |  |  | 1080

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 21, 2004.
Robert Sargis,
Reports Clearance Officer.

[FR Doc. 04-14533 Filed 6-25-04; 8:45 am]

BILLING CODE 4184-01-M